NUCLEAR REGULATORY COMMISSION

Agency Information Collection Activities: Submission for OMB Review; Comment Request

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision

2. The title of the information collection: Final rule, Requirements for certain generally licensed industrial devices containing byproduct material (10 CFR Parts 30, 31, and 32)

3. The form number, if applicable: NRC Form 653, Transfers of Industrial Devices Report

4. How often the collection is required: Quarterly, annually, on occasion

5. Who is required or asked to report: NRC licensees and Agreement State licensees

6. An estimate of the number of responses:

Part 30: 5 responses (5 NRC licensees);

Part 31: 65,904 responses (13,251 NRC licensees and 52,653 Agreement State licensees);

Part 32: 16,278 responses (4,277 NRC licensees and 12,001 Agreement State licensees);

NRC Form 653: 2,208 responses (504 NRC licensees and 1,704 Agreement State licensees)

7. The estimated number of annual respondents:

Part 30: 5 respondents (5 NRC licensees);

Part 31—30,380 respondents (7,595 NRC licensees and 22,785 Agreement State licensees);

Part 32—92 respondents (21 NRC licensees and 71 Agreement State licensees);

NRC Form 653—92 respondents (21 NRC licensees and 71 Agreement State licensees).

8. An estimate of the number of hours needed annually to complete the requirement or request:

Part 30—3 hours (NRC licensees);

Part 31—35,488 hours (35,792 reporting hours—7,884 hours NRC licensees and 27,907 hours Agreement State licensees and a reduction of 304 recordkeeping hours—76 hours NRC licensees and 228 hours Agreement State licensees).

Part 32—583 hours (490 reporting hours—128 hours NRC licensees and 362 hours Agreement State licensees plus 93 recordkeeping hours—21 hours NRC licensees and 72 hours Agreement State licensees).

Form 653—516 hours (118 hours NRC licensees and 398 hours Agreement State licensees).

9. An indication of whether Section 3507(d), Pub. L. 104-13 applies: Applicable

10. Abstract: The final rule amends regulations governing the use of byproduct material in certain measuring, gauging, or controlling devices. The amendments include specific criteria for inclusion in the registration program and details about the information required. The amendments also modify the quarterly transfer reporting, recordkeeping, and labeling requirements for specific licensees who distribute these generally licensed devices and provide clarification concerning provisions of the regulations applicable to all general licensees for byproduct material. The rule is intended to allow the NRC to better track general licensees so that they can be contacted or inspected, to make sure that the devices can be identified even if lost or damaged, and to further ensure that general licensees are aware of and understand the requirements for the possession of devices containing byproduct material. Greater awareness helps to ensure that general licensees will comply with the requirements for proper handling and disposal of generally licensed devices and would reduce the potential for incidents that could result in unnecessary radiation exposure to the public and contamination of property.

A copy of the final supporting statement may be viewed free of charge at the NRC Public Document Room, 2120 L Street, NW (lower level), Washington, DC. OMB clearance requests are available at the NRC worldwide web site (http://www.nrc.gov/NRC/PUBLIC/OMB/index.html). The document will be available on the NRC home page site for 60 days after the signature date of this notice.

Comments and questions should be directed to the OMB reviewer by September 22, 2000: Erik Godwin Office of Information and Regulatory Affairs (3150-0017, -0016, and -0001), NEOB-10202, Office of Management and Budget, Washington, DC 20503.

Comments can also be submitted by telephone at (202) 395-3087.

The NRC Clearance Officer is Brenda Jo. Shelton, 301-415-7233.

Dated at Rockville, Maryland, this 16th day of August, 2000.
For the Nuclear Regulatory Commission.
Brenda Jo. Shelton,
NRC Clearance Officer, Office of the Chief Information Officer.

[FR Doc. 00-21514 Filed 8-22-00; 8:45 am]

BILLING CODE 7590-01-P